DEPARTMENT OF DEFENSE

Office of the Secretary

Defense Task Force on Sexual Assault in the Military Services

AGENCY: Office of the Assistant Secretary of Defense (Personnel and Readiness); DoD.

ACTION: Committee Meeting Change.

SUMMARY: Pursuant to 41 CFR 102-3.160 (b), a change announcement is made to a previously announced committee meeting of the Defense Task Force on Sexual Assault in the Military Services (hereafter referred to as the Task Force).

DATES: October 29, 2008, through October 31, 2008, (8 a.m. to 5 p.m. Central Standard Time, hereafter referred to as CST, October 29 and 30, 2008, and 8 a.m. to 12 p.m. CST October 31, 2008).

ADDRESSES: Lincolnshire Marriott Resort, Salon A, 10 Marriott Drive, Lincolnshire, Illinois 60069.

FOR FURTHER INFORMATION CONTACT: Colonel Jackson-Chandler, Designated Federal Officer, Defense Task Force on Sexual Assault in the Military Services, 2850 Eisenhower Avenue, Suite 100, Alexandria, Virginia 22314, Telephone: (703) 325-6640, DSN# 221, Fax: (703) 325-6710/6711, E-mail: cora.chandler@wso.whs.mil.

SUPPLEMENTARY INFORMATION: The Task Force will meet from October 29 to 31, 2008. The previously announced public meeting on October 30, 2008, remains unchanged. However, the task force has added two additional administrative working meetings to its scheduled visit to Naval Training Center and Naval Station Great Lakes, Illinois. The purpose of these administrative working meetings on October 29 and 31, 2008 are to discuss administrative matters that relate to the task force. Pursuant to 41 CFR 102-3(b), administrative working meetings are closed to the public. Previously published guidance remains in effect.

Dated: October 10, 2008.
Robert L. Cushing, Jr.,
Alternate OSD Federal Register Liaison Officer, Department of Defense.

[FR Doc. E8-24690 Filed 10-16-08; 8:45 am]

BILLING CODE 5001-06-P